DEPARTMENT OF HOUSING AND URBAN DEVELOPMENT

[Docket No. FR 5463-N-01]

Notice of Web Availability and Opportunity for Public Comment on Updated Guidance for the Section 202 Supportive Housing for the Elderly and Section 811 Supportive Housing for Persons With Disabilities Programs Draft Notice

AGENCY: Office of the Assistant Secretary for Housing-Federal Housing Commissioner, HUD.

ACTION: Notice.

SUMMARY: Through this notice, HUD announces the availability on its Web site of a draft notice updating HUD's guidance for the Section 202 Supportive Housing for the Elderly and Section 811 Supportive Housing for Persons with Disabilities Programs. HUD's draft notice provides revised procedures relating to processing activities after selection of Section 202 and Section 811 applications for fund reservations, including mixed-finance transactions. HUD will accept and consider comments from the public. Public comments must be submitted in accordance with the instructions in the ADDRESSES section of this notice. HUD's draft notice will be posted and is available at http://www.hud.gov/offices/hsg/mfh/progdesc/progdesc.cfm.

Comment Due Date: January 18, 2011.

ADDRESSES: Interested persons are invited to submit comments on HUD's draft Section 202/811 Program Guidance. Communications must refer to the above docket number and title. There are two methods of submitting public comments:

1. Submission of Comments by Mail. Comments may be submitted by mail posted by the due date to the Department of Housing and Urban Development, Attention: Section 202/811 Processing Guidance, 451 7th Street, SW., Room 6134, Washington, DC 20410.

2. Submission of comments by e-mail. Comments may be submitted by e-mail to 202/811Mixed-Finance@hud.gov.

Facsimile (Fax) comments will not be accepted.

All communications must refer to the above docket number and title. Comments must specifically identify the page and paragraph number to which they refer.

FOR FURTHER INFORMATION CONTACT: Kerry Mulholland, Office of Multifamily Housing Development, Office of Housing, Department of Housing and Urban Development, 451 7th Street, SW., Room 6128, Washington, DC 20410, telephone 202-708-3000 Ext. 2649.

Carol J. Galante,
Deputy Assistant Secretary for Multifamily Housing Programs.

[FR Doc. 2010-30689 Filed 12-7-10; 8:45 am]

BILLING CODE P